DEPARTMENT OF THE INTERIOR

Bureau of Land Management

[CA-610-02-1220-AA]

Notice of Relocation of the Bureau of Land Management's California Desert District Office in Riverside, CA

SUMMARY: Notice is hereby given that the Bureau of Land Management's (BLM) California Desert District Office is moving from its current location at 6221 Box Springs Boulevard in Riverside to a new building located at 22835 Calle San Juan De Los Lagos in Moreno Valley, California the week of February 3. The BLM will officially close the Riverside office 4:30 p.m., Thursday, February 6 and reopen at the new office on Monday, February 10.

The BLM encourages the public to arrange any work with BLM before February 6 or after February 10. The telephone numbers will remain the same and are scheduled to be back on line on Monday.

Directions to the new BLM office: from I-215 take the Alessandro exit and go east two miles, turn right on Frederick, right on Calle San Juan De Los Lagos, and the BLM office will be on the left; or from I-60 take the Pigeon Pass exit, which becomes Frederick, go south three miles, and turn right on Calle San Juan De Los Lagos. The new address is Bureau of Land Management, California Desert District Office, 22835 Calle San Juan De Los Lagos, Moreno Valley, 92553.

FOR MORE INFORMATION CONTACT: Doran Sanchez, BLM California Desert District External Affairs, at (909) 697-5220.

Dated: January 30, 2003.
Linda Hansen,
District Manager.

[FR Doc. 03-2648 Filed 2-4-03; 8:45 am]

BILLING CODE 4310-40-U